DEPARTMENT OF COMMERCE

International Trade Administration

Antidumping Methodologies for Proceedings that Involve Significant Cost Changes Throughout the Period of Investigation (POI)/Period of Review (POR) that May Require Using Shorter Cost Averaging Periods; Request for Comment and Proposed Methodology for Identifying and Analyzing Targeted Dumping in Antidumping Investigations; Request for Comment

AGENCY: Import Administration, International Trade Administration, Department of Commerce.

ACTION: Extension of Comment Periods.

SUMMARY: On May 9, 2008, the Department (“the Department”) published notices in the Federal Register requesting comments regarding methodologies for proceedings that involve significant cost changes throughout the POI/POR that may require using shorter cost averaging periods (73 FR 26364), and proposed methodologies for identifying and analyzing targeted dumping in antidumping investigations (73 FR 26371). The Department is extending the comment periods, making the new deadlines for the submission of public comments June 23, 2008.

DATES: To be assured of consideration, written comments must be received no later than June 23, 2008.

ADDRESS: Written comments (original and six copies) should be sent to the Secretary of Commerce, Attn: Import Administration, Office of Accounting, APO/Dockets Unit, Room 1870, U.S. Department of Commerce, 14th Street & Constitution Ave., NW, Washington, DC 20230.

FOR FURTHER INFORMATION CONTACT: Neal M. Halper, Director, Office of Accounting, Taija A. Slaughter, Lead Accountant, Office of Accounting, Anthony Hill, International Economist, Office of Policy, or Mike Rill, Director, Antidumping Policy, Import Administration, U.S. Department of Commerce, 14th Street and Constitution Avenue, NW., Washington, DC 20230; telephone: (202) 482-2989, (202) 482-3563, (202) 482-1843 or (202) 482-3058, respectively.

SUPPLEMENTARY INFORMATION:

Submission of Comments

The Department is extending the deadlines for submitting rebuttal comments by ten business days, to June 23, 2008. The Department will consider all comments received before the close of the comment periods. Consideration of comments received after the end of the comment periods cannot be assured.

Persons wishing to comment should file a signed original and six copies of each set of comments by the date specified above. The Department will not accept comments accompanied by a request that a part or all of the material be treated confidentially due to business proprietary concerns or for any other reason. The Department will return such comments and materials to the persons submitting the comments and will not consider them in its development of a methodology for when it is appropriate to deviate from the annual average cost reporting method to shorter cost averaging periods, or when considering proposed methodologies for identifying and analyzing targeted dumping in antidumping investigations. The Department requires that comments be submitted in written form. The Department also requests submission of comments in electronic form to accompany the required paper copies. Comments filed in electronic form should be submitted either by e-mail to the webmaster below, or on CD-ROM, as comments submitted on diskettes are likely to be damaged by postal radiation treatment.

Comments received in electronic form will be made available to the public in Portable Document Format (PDF) on the Internet at the Import Administration website at the following address: http:/ia.ita.doc.gov.

Any questions concerning file formatting, document conversion, access on the Internet, or other electronic filing issues should be addressed to Andrew Lee Beller, Import Administration Webmaster, at (202) 482-0866, email address: webmaster-support@ita.doc.gov.

Dated: June 4, 2008.
David M. Spooner,
Assistant Secretary for Import Administration.

[FR Doc. E8-12987 Filed 6-6??-08; 8:45 am]

BILLING CODE 3510-DS-S